DEPARTMENT OF ENERGY

Federal Energy Regulatory Commission

Combined Notice of Filings #1

Take notice that the Commission received the following electric corporate filings:

Docket Numbers: EC17-184-000.

Applicants: Puget Sound Energy, Inc., Macquarie Infrastructure Partners Inc.

Description: Application for Authorization Under Section 203 of the Federal Power Act of Puget Sound Energy, Inc., et al.

Filed Date: 9/19/17.

Accession Number: 20170919-5075.

Comments Due: 5 p.m. ET 10/10/17.

Docket Numbers: EC17-186-000.

Applicants: American Transmission Company LLC.

Description: Application for Authorization Under Section 203 of the Federal Power Act of American Transmission Company LLC.

Filed Date: 9/19/17.

Accession Number: 20170919-5100.

Comments Due: 5 p.m. ET 10/10/17.

Take notice that the Commission received the following exempt wholesale generator filings:

Docket Numbers: EG17-151-000.

Applicants: RE Gaskell West LLC.

Description: Notice of Self-Certification of Exempt Wholesale Generator Status of RE Gaskell West LLC.

Filed Date: 9/19/17.

Accession Number: 20170919-5074.

Comments Due: 5 p.m. ET 10/10/17.

Docket Numbers: EG17-152-000.

Applicants: RE Gaskell West 1 LLC.

Description: Notice of Self-Certification of Exempt Wholesale Generator Status of RE Gaskell West 1 LLC.

Filed Date: 9/19/17.

Accession Number: 20170919-5082.

Comments Due: 5 p.m. ET 10/10/17.

Docket Numbers: EG17-153-000.

Applicants: RE Gaskell West 4 LLC.

Description: Notice of Self-Certification of Exempt Wholesale Generator Status of RE Gaskell West 4 LLC.

Filed Date: 9/19/17.

Accession Number: 20170919-5083.

Comments Due: 5 p.m. ET 10/10/17.

Docket Numbers: EG17-154-000.

Applicants: RE Gaskell West 5 LLC.

Description: Notice of Self-Certification of Exempt Wholesale Generator Status of RE Gaskell West 5 LLC.

Filed Date: 9/19/17.

Accession Number: 20170919-5084.

Comments Due: 5 p.m. ET 10/10/17.

Docket Numbers: EG17-155-000.

Applicants: RE Gaskell West 3 LLC.

Description: Notice of Self-Certification of Exempt Wholesale Generator Status of RE Gaskell West 3 LLC.

Filed Date: 9/19/17.

Accession Number: 20170919-5085.

Comments Due: 5 p.m. ET 10/10/17.

Take notice that the Commission received the following electric rate filings:

Docket Numbers: ER05-6-118.

Applicants: Midcontinent Independent System Operator, Inc., PJM Interconnection, L.L.C.

Description: Midcontinent Independent System Operator, Inc., et al. submits tariff filing per 35.19a(b): Refund Report (ER05-6-118, ER10-2283-000/001, EL04-135-120, EL02-111-139 and EL03-212-134) to be effective N/A.

Filed Date: 9/18/17.

Accession Number: 20170918-5224.

Comments Due: 5 p.m. ET 10/10/17.

Docket Numbers: ER10-2283-001.

Applicants: Midcontinent Independent System Operator, Inc.

Description: Report Filing: 2017-09-18_SECA Refund Report to be effective N/A.

Filed Date: 9/18/17.

Accession Number: 20170918-5148.

Comments Due: 5 p.m. ET 10/10/17.

Docket Numbers: ER15-2294-002.

Applicants: Pacific Gas and Electric Company.

Description: Report Filing: TO17 Compliance Electric Refund Report to be effective N/A.

Filed Date: 9/15/17.

Accession Number: 20170915-5169.

Comments Due: 5 p.m. ET 10/6/17.

Docket Numbers: ER15-2324-002.

Applicants: Southwest Power Pool, Inc.

Description: Compliance filing: Missouri River Energy Services Members Formula Rate Compliance Filing to be effective 10/1/2015.

Filed Date: 9/19/17.

Accession Number: 20170919-5036.

Comments Due: 5 p.m. ET 10/10/17.

Docket Numbers: ER16-2355-002.

Applicants: Midcontinent Independent System Operator, Inc.

Description: Compliance filing: 2017-09-19_Amendment to RSG Exemptions Compliance filing to be effective. 8/31/2010.

Filed Date: 9/19/17.

Accession Number: 20170919-5027.

Comments Due: 5 p.m. ET 10/10/17.

Docket Numbers: ER17-1138-001.

Applicants: PJM Interconnection, L.L.C.

Description: Tariff Amendment: Response to Deficiency Letter Issued May 5, 2017 in Docket No. ER17-1138-000 to be effective 5/9/2017.

Filed Date: 9/18/17.

Accession Number: 20170918-5201.

Comments Due: 5 p.m. ET 10/10/17.

Docket Numbers: ER17-2502-000.

Applicants: PJM Interconnection, L.L.C.

Description: § 205(d) Rate Filing: Queue Position #AB1-014; Original Service Agreement No. 4776 to be effective 8/24/2017.

Filed Date: 9/18/17.

Accession Number: 20170918-5161.

Comments Due: 5 p.m. ET 10/10/17.

Docket Numbers: ER17-2503-000.

Applicants: Midcontinent Independent System Operator, Inc.

Description: § 205(d) Rate Filing: 2017-09-19_SA 3051 English Farm-MEC GIA (J438) to be effective 9/5/2017.

Filed Date: 9/19/17.

Accession Number: 20170919-5039.

Comments Due: 5 p.m. ET 10/10/17.

Docket Numbers: ER17-2504-000.

Applicants: Imperial Valley Solar 3, LLC.

Description: Baseline eTariff Filing: Imperial Valey Solar 3, LLC Co-Tenancy Agreement to be effective 9/20/2017.

Filed Date: 9/19/17.

Accession Number: 20170919-5043.

Comments Due: 5 p.m. ET 10/10/17.

Docket Numbers: ER17-2505-000.

Applicants: Vermont Transco, LLC.

Description: Compliance filing: Supplement to Annual Informational Filing Pending in Docket ER17-2040 to be effective 7/1/2017.

Filed Date: 9/19/17.

Accession Number: 20170919-5050.

Comments Due: 5 p.m. ET 10/10/17.

Docket Numbers: ER17-2506-000.

Applicants: Midcontinent Independent System Operator, Inc.

Description: § 205(d) Rate Filing: 2017-09-19_SA 3050 SC Interconnection-ITCM GIA (J298) to be effective 9/5/2017.

Filed Date: 9/19/17.

Accession Number: 20170919-5051.

Comments Due: 5 p.m. ET 10/10/17.

Docket Numbers: ER17-2507-000.

Applicants: RE Gaskell West LLC.

Description: Baseline eTariff Filing: Application for Market Based Rate to be effective 10/10/2017.

Filed Date: 9/19/17.

Accession Number: 20170919-5055.

Comments Due: 5 p.m. ET 10/10/17.

Docket Numbers: ER17-2508-000.

Applicants: RE Gaskell West 1 LLC.

Description: Baseline eTariff Filing: Application for Market Based Rate to be effective 10/10/2017.

Filed Date: 9/19/17.

Accession Number: 20170919-5057.

Comments Due: 5 p.m. ET 10/10/17.

Docket Numbers: ER17-2509-000.

Applicants: RE Gaskell West 3 LLC.

Description: Baseline eTariff Filing: Application for Market Based Rate to be effective 10/10/2017.

Filed Date: 9/19/17.

Accession Number: 20170919-5058.

Comments Due: 5 p.m. ET 10/10/17.

Docket Numbers: ER17-2510-000.

Applicants: RE Gaskell West 4 LLC.

Description: Baseline eTariff Filing: Application for Market Based Rate to be effective 10/10/2017.

Filed Date: 9/19/17.

Accession Number: 20170919-5064.

Comments Due: 5 p.m. ET 10/10/17.

Docket Numbers: ER17-2511-000.

Applicants: RE Gaskell West 5 LLC.

Description: Baseline eTariff Filing: Application for Market Based Rate to be effective 10/10/2017.

Filed Date: 9/19/17.

Accession Number: 20170919-5067.

Comments Due: 5 p.m. ET 10/10/17.

Docket Numbers: ER17-2512-000.

Applicants: K&R Energy Partners LLC.

Description: Baseline eTariff Filing: KG Energy Partners Market Based Rate Tariff to be effective 10/1/2017.

Filed Date: 9/19/17.

Accession Number: 20170919-5068.

Comments Due: 5 p.m. ET 10/10/17.

Take notice that the Commission received the following qualifying facility filings:

Docket Numbers: QF14-400-002.

Applicants: North Carolina Renewable Power-Lumberton.

Description: Form 556 of North Carolina Renewable Power-Lumberton, LLC.

Filed Date: 6/22/17.

Accession Number: 20170622-5236.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2017.
Nathaniel J. Davis, Sr.,
Deputy Secretary.

[FR Doc. 2017-20550 Filed 9-25-17; 8:45 am]

BILLING CODE 6717-01-P